GENERAL SERVICES ADMINISTRATION

[Notice—PBS-2017-04; Docket 2017-0002; Sequence 23

Notice of Availability of a Draft Environmental Assessment for the Otay Mesa USDA Plant Inspection Station

AGENCY: Public Building Service, (PBS), General Services Administration (GSA).

ACTION: Notice of intent; announcement of meeting.

SUMMARY: GSA is making available for public comment a Draft Environmental Assessment (EA) prepared for the construction of the proposed U.S. Department of Agriculture (USDA) Animal and Plant Health Inspection Service (APHIS) Plant Inspection Station (PIS), adjacent to the existing Otay Mesa Land Port of Entry (LPOE) in Otay Mesa, San Diego County, California. The National Environmental Policy Act (NEPA) requires Federal agencies to evaluate the potential impacts that the proposed action may have on the human and natural environment. GSA serves as the lead agency for NEPA.

DATES: Meeting Date: A public meeting for the Draft EA will be held on Tuesday, December 5, 2017, from 4:00 p.m. Pacific Standard Time (PDT), to 6:00 p.m., PDT. We will consider all comments that we receive on or before Friday, December 29, 2017.

ADDRESSES: The meeting will be held at the Quality Suites Otay Mesa Conference Room, located at 2351 Otay Center Drive, San Diego, California 92154. Copies of the Draft EA will be available for public review at the Otay Mesa-Nestor Branch Library, located at 3003 Coronado Avenue, San Diego, CA 92154, or at gsa.gov/NEPALibrary. CD copies are available for review by request.

You may submit comments at the public meeting by either of the following methods:

• Email: Osmahn.Kadri@gsa.gov.

• Postal Mail/Commercial Delivery: c/o Osmahn Kadri, 50 United Nations Plaza, Room 3345, Mailbox 9, San Francisco, CA 94102.

FOR FURTHER INFORMATION CONTACT: Osmahn Kadri, NEPA Project Manager, Pacific Rim Region, GSA, 50 United Nations Plaza, Room 3345, Mailbox 9, San Francisco, CA 94102, by phone at 415-522-3617, or via email to osmahn.kadri@gsa.gov.

SUPPLEMENTARY INFORMATION: The EA is being prepared to comply with the NEPA of 1969, as amended (42 U.S.C. 4321), as implemented by Council on Environmental Quality (CEQ) regulations (40 Code of Federal Regulations [CFR] 1500-1508), and policies of GSA as the lead federal agency. The EA process provides steps and procedures to evaluate the potential social, economic, and environmental impacts for the construction of the proposed USDA APHIS PIS at Otay Mesa LPOE. It allows an opportunity for local, state, or federal agencies to provide input and/or comment through scoping, public information meetings, and/or a public hearing. The social, economic, and environmental considerations are evaluated and measured, as defined in the CEQ regulations, by their magnitude of impacts.

Plant Inspection Stations allow the USDA to inspect imported plants, other regulated plant material, and live organisms to determine admissibility into the country. The current APHIS PIS at Otay Mesa has limited capabilities due to space restraints within the LPOE, and has exceeded its operational capacity. Also, the U.S. Customs and Border Protection needs the existing APHIS PIS space for planned improvements to the border crossing.

Therefore, the USDA and GSA propose to construct a new APHIS PIS on the vacant land adjacent to the existing LPOE.

Dated: November 21, 2017.
Matthew Jear,
Director, Portfolio Management Division, Pacific Rim Region, Public Buildings Service.

[FR Doc. 2017-25956 Filed 12-1-17; 8:45 am]

BILLING CODE 6820-YF-P